DEPARTMENT OF HOMELAND SECURITY

Federal Emergency Management Agency

44 CFR Part 67

Final Flood Elevation Determinations

AGENCY: Federal Emergency Management Agency, DHS.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: William R. Blanton, Jr., Engineering Management Section, Mitigation Division, Federal Emergency Management Agency, 500 C Street, SW., Washington, DC 20472, (202) 646-3151.

SUPPLEMENTARY INFORMATION: The Federal Emergency Management Agency (FEMA) makes the final determinations listed below for the modified BFEs for each community listed. These modified elevations have been published in newspapers of local circulation and ninety (90) days have elapsed since that publication. The Mitigation Division Director of FEMA has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

State | City/town/county | Source of flooding | Location | # Depth in feet above ground. * Elevation in feet (NGVD) + Elevation in feet (NAVD) Modified
Union County, Arkansas
Docket No.: FEMA-B-7456
Arkansas | Union County, (Unincorporated Areas) | F Creek | Approximately at Highway 7 and F Creek | +133
|  |  | Confluence of F Creek and F Creek Tributary FC | +171
| Union County, (Unincorporated Areas) | Ouachita River | Approximately 1,700 feet Northwest of New Lock 8 and Ouachita River | +97
|  |  | Approximately at Ouachita River and Highway 167 | +100
| Union County, (Unincorporated Areas) | Ouachita River | Approximately at New Lock Road 6 | +91
|  |  | South end of Old Lock 6 Road | +91
| Union County, (Unincorporated Areas) | Boggy Creek | Approximately at Highway 82 and Boggy Creek | +186
|  |  | Approximately 1,200 feet downstream from E. Main Street and Boggy Creek | +213
| Union County, (Unincorporated Areas) | Lapile Creek | Approximately at Lapile Creek and Highway 82 | +103
|  |  | Approximately at Lapile Creek and Highway 275 | +107
| Union County, (Unincorporated Areas) | Loutre Creek Tributary 2 | Confluence of Loutre Creek Tributary 2 and Loutre Creek Main Stem | +192
|  |  | Approximately 1,000 feet downstream from Loutre Creek Tributary 2 and Robert E. Lee Street | +203
| Union County, (Unincorporated Areas) | Loutre Creek Main Stem | Approximately at Loutre Creek Main Stem and Ouachita Railroad | +186
|  |  | Confluence of Loutre Creek Tributary 2 and Loutre Creek Main Stem | +192
# Depth in feet above ground.
* National Geodetic Vertical Datum.
+ North American Vertical Datum.
ADDRESSES
Union County (Unincorporated Areas)
Maps are available for inspection at Union County Courthouse, 101 N. Washington St., Ste 101, El Dorado, Arkansas 71730.
Guam
Docket No.: FEMA-D-7674
Guam |  | Agana River | At downstream side of Marine Drive (Route 1) | *7
|  |  | Approximately 350 feet upstream of O'Brien Drive | *13
#Depth in feet above ground.
*National Geodetic Vertical Datum.
+North American Vertical Datum.
ADDRESSES
Guam
Maps are available for inspection at the Guam Department of Public Works, Government of Guam, 542 North Marine Drive, Building A, Tamuning, Guam.
City of Anthon, Iowa
Docket No.: FEMA-B-7704
Iowa | City of Anthon / Woodbury County | Little Sioux River | At southern corporate limit, approximately 5,000 feet downstream of 220th Street Bridge | *1,100
|  |  | At northern corporate limit, approximately 5,500 feet upstream of 220th Street Bridge | *1,105
# Depth in feet above ground.
* National Geodetic Vertical Datum.
+ North American Vertical Datum.
ADDRESSES
City of Anthon
Maps are available for inspection at City Hall, 301 East Main Street, Anthon, Iowa 51004.
City of Watertown, South Dakota
Docket No.: FEMA-B-7462
South Dakota | City of Watertown | Big Sioux River | Approximately 4,675 feet downstream of 20th Avenue South | +1,714
|  |  | Approximately 1,900 feet upstream from the 14th Avenue North Bridge | +1,723
| City of Watertown | Roby Creek | At 3rd Avenue North bridge | +1,735
|  |  | Approximately 3,750 feet upstream of 3rd Avenue North bridge | +1,745
| City of Watertown | Pelican Lake | Pelican Lake | +1,717
# Depth in feet above ground.
* National Geodetic Vertical Datum.
+ North American Vertical Datum.
ADDRESSES
City of Watertown
Maps are available for inspection at: City Hall, 23 2nd Street NE, Watertown, SD.
Town of Hulett, Wyoming
Docket No.: FEMA-B-7460
Wyoming | Town of Hulett | Belle Fourche River | 0.75 miles downstream of State Highway 24 | +3,747
|  |  | 0.48 miles upstream of State Highway 24 | +3,754
# Depth in feet above ground.
* National Geodetic Vertical Datum.
+ North American Vertical Datum.
ADDRESSES
Town of Hulett
Maps are available for inspection at The Town of Hulett.

Flooding source(s) | Location of referenced elevation | * Elevation in feet (NGVD) + Elevation in feet (NAVD) # Depth in feet above ground. Modified | Communities affected
Escambia County, Alabama and Incorporated Areas
Docket No.: FEMA-B-7702
Big Escambia Creek | U.S. 29 and U.S. 31 Crossing | +73 | Escambia County (Unincorporated Areas).
| Approximately 8,000 feet upstream of U.S. 9 and U.S. 31 Crossing | +78
Burnt Corn | Approximately 6,200 feet upstream of confluence with Murder Creek | +88 | Escambia County (Unincorporated Areas).
| Approximately 1,500 feet upstream of confluence with Little Juniper Creek | +109
Conecuh River | Approximately 6,000 feet upstream of confluence with Murder Creek | +79 | Town of Riverview, Escambia County (Unincorporated Areas).
| Approximately 31,000 feet upstream of confluence with Murder Creek | +86
Franklin Mill Creek | Approximately 4,000 feet upstream of confluence with Murder Creek | +69 | Escambia County (Unincorporated Areas).
| Approximately 4,000 feet upstream of Booth Boulevard Crossing | +91
King Branch | Confluence with Murder Creek | +90 | Escambia County (Unincorporated Areas).
| Martin Luther King Drive Crossing | +109
Mantle Branch | Confluence with Conecuh River | +82 | Escambia County (Unincorporated Areas).
| Forrest Avenue (U.S. 29) Crossing | +82
Murder Creek | Approximately 11,000 feet upstream of confluence with Conecuh River | +81 | Escambia County (Unincorporated Areas).
| Approximately 10,000 feet upstream of confluence with King Branch | +95
* National Geodetic Vertical Datum.
+ North American Vertical Datum.
# Depth in feet above ground.
ADDRESSES
Town of Riverview
Maps are available for inspection at 4190 Highway 41, Brewton, AL 36426.
Escambia County (Unincorporated Areas)
Maps are available for inspection at 314 Belleville Avenue, Brewton, AL 36426.
Calhoun County, Alabama and Incorporated Areas
Docket No.: FEMA-B-7702
Coosa River | Talladega County Line | +479 | Calhoun County (Unincorporated Areas).
| Etowah County Line | +510
* National Geodetic Vertical Datum.
+ North American Vertical Datum.
# Depth in feet above ground.
ADDRESSES
Town of Ohatchee
Maps are available for inspection at 7801 Alabama Highway 77, Ohatchee, AL 36271.
Calhoun County (Unincorporated Areas)
Maps are available for inspection at 507 Francis Street W, Jacksonville, AL 36265.
Talladega County, Alabama, and Incorporated Areas
Docket No.: FEMA-B-7702
Blue Eye Creek | Approximately 2,000 feet downstream of McLain Avenue Crossing | +482 | Talladega County (Unincorporated Areas).
| Approximately 1,000 feet upstream of McLain Avenue Crossing | +486
Coosa River | Approximately 13,000 feet downstream of confluence with Talladega Creek | +413 | Talladega County (Unincorporated Areas).
| Approximately 3,000 feet downstream of confluence with Talladega Creek | +414
Coosa River | Shelby County Line | +418 | Town of Lincoln, Talladega County (Unincorporated Areas).
| Calhoun County Line | +479
Crooked Creek | Approximately 4,500 feet downstream of 3rd Street Crossing | +521 | Talladega County (Unincorporated Areas).
| Approximately 2,000 feet downstream of 3rd Street Crossing | +526
Griffin Branch | Approximately 7800 feet downstream of Bon Air Road Crossing | +421 | City of Childersburg, Town of Bon Air, Talladega County (Unincorporated Areas).
| U.S. Highway 280 Crossing | +469
Shirtee Creek | Odena Road Crossing | +465 | Talladega County (Unincorporated Areas).
| Approximately 3,000 feet upstream of Odena Road Crossing | +471
Talladega Creek | Confluence with Coosa River | +417 | Talladega County (Unincorporated Areas).
| Approximately 8,000 feet upstream of confluence with Coosa River | +418
Upper Shirtee Creek | Approximately 1,000 feet downstream of Old Birmingham Highway Crossing | +516 | Talladega County (Unincorporated Areas).
| Old Birmingham Highway Crossing | +518
* National Geodetic Vertical Datum.
+ North American Vertical Datum.
# Depth in feet above ground.
ADDRESSES
City of Childersburg
Maps are available for inspection at 118 Sixth Avenue, SW, Childersburg, AL 35044.
Town of Bon Air
Maps are available for inspection at 500 Institute Lane, Talladega, AL 35161.
Town of Lincoln
Maps are available for inspection at 33 Complex Drive, Linclon, AL 35096.
Talladega County (Unincorporated Areas)
Maps are available for inspection at 500 Institute Lane, Talladega, AL 35161.
Benton County, Arkansas and Incorporated Areas
Docket No.: FEMA-B-7465
Little Osage Creek | Approximately 500 feet upstream from the intersection with West Fish Hatchery Road | +1258 | City of Centerton.
| Approximately 100 feet upstream from the intersection with Centerton Blvd | +1278
McKisic Creek | At Confluence with Little Sugar Creek | +1037 | Benton County (Unincorporated Areas), City of Bentonville, City of Centerton.
| Approximately 300 feet upstream from the intersection of Harvest Street and Tyler Street | +1291
Osage Tributary 1 | Approximately 1000 feet downstream from the intersection with Stoney Brook Road | +1197 | Benton County (Unincorporated Areas), City of Bentonville, City of Rogers.
| Approximately 100 feet upstream from the intersection with 14th Street | +1302
Osage/Turtle Creek | Approximately 500 feet downstream from the intersection of Inglewood Road and Osage Creek Road | +1160 | Benton County (Unincorporated Areas), City of Cave Springs, City of Rogers.
| Approximately 200 feet downstream from the intersection of West Persimmon Street and North 4th Street | +1347
Tributary 3 to Sager Creek | Approximately 1000 feet downstream from the intersection with Orchard Hill Road | +1042 | Benton County (Unincorporated Areas), City of Siloam.
| Approximately 150 feet upstream from the intersection with North Mt. Olive Street | +1087
* National Geodetic Vertical Datum.
+ North American Vertical Datum.
# Depth in feet above ground.
ADDRESSES
City of Bentonville
Maps are available for inspection at 305 Southwest A Street, Bentonville, AR 72712.
City of Cave Springs
Maps are available for inspection at 137 N. Main, Cave Springs, AR 72718.
City of Centerton
Maps are available for inspection at 290 Main Street, Centerton, AR 72719.
City of Rogers
Maps are available for inspection at 207 South 2nd, Rogers, AR 72756.
City of Siloam Springs
Maps are available for inspection at 400 North Broadway, Siloam Springs, AR 72761.
Unincorporated Areas of Benton County
Maps are available for inspection at 905 Northwest 8th Street, Bentonville, AR 72712.
Gulf County, Florida and Incorporated Areas
Docket No.: FEMA-B-7702
Five Acre Farm Creek East | Approximately 800 feet downstream of County Route 381 | +23 | Gulf County (Unincorporated Areas).
| Approximately 1.0 mile upstream of County Route 381 | +26
Five Acre Farm Creek West | Approximately 1.6 miles downstream of State Route 71 | +25 | Gulf County (Unincorporated Areas).
| Just upstream of State Route 71 | +26
Stone Mill Creek | Approximately 0.4 mile downstream of State Route 71 | +30 | Gulf County (Unincorporated Areas), City of Wewahitchka.
| Approximately 2.8 miles upstream of State Route 71 | +31
* National Geodetic Vertical Datum.
+ North American Vertical Datum.
# Depth in feet above ground.
ADDRESSES
Gulf County (Unincorporated Areas)
Maps are available for inspection at the Gulf County Courthouse, 1000 Cecil G. Costin, Sr. Boulevard, Room 302, Port St. Joe, Florida.
City of Wewahitchka
Maps are available for inspection at the Wewahitchka City Hall, 109 South 2nd Street, Wewahitchka, Florida.
Seminole County, Florida and Incorporated Areas
Docket No.: FEMA-B-7462, FEMA-B-7702
Bel Air Lake |  | +45 | Seminole County (Unincorporated Areas).
Big Lake Mary |  | +43 | City of Lake Mary.
Bird Lake |  | +61 | City of Longwood.
Boat Lake |  | +53 | Seminole County (Unincorporated Areas).
Border Lake |  | +77 | Seminole County (Unincorporated Areas), City of Winter Springs.
Canal Between Lake Wildmere and Fairy Lake | Approximately 175 feet downstream of Foggy Brook Place | +58 | City of Longwood.
| Approximately 63 feet downstream of Wildmere Avenue | +63
Clear Lake |  | +64 | Seminole County (Unincorporated Areas).
Crane Lake |  | +63 | City of Longwood.
Crystal Bowl |  | +65 | City of Casselberry.
Cyrstal Lake |  | +45 | City of Lake Mary.
Dawson Lake |  | +45 | City of Lake Mary.
Deep Lake |  | +55 | Seminole County (Unincorporated Areas).
De Forest Lakes |  | +45 | Seminole County (Unincorporated Areas).
Duck Pond |  | +58 | City of Casselberry.
East Lake |  | +62 | City of Longwood.
Fairy Lake |  | +58 | Seminole County (Unincorporated Areas), City of Longwood.
Fairy Lake Drainage Canal | At Grant Street | +58 | City of Longwood.
| Approximately 20 feet downstream of East Lake Street | +79
Golden Lake |  | +41 | Seminole County (Unincorporated Areas), City of Sanford.
Golf Course Lake 1 |  | +52 | City of Sanford.
Lake 2 |  | +50 | City of Lake Mary.
Lake 3 |  | +48 | City of Lake Mary.
Lake 4 |  | +48 | City of Lake Mary.
Grace Lake |  | +67 | Seminole County (Unincorporated Areas).
Grassey Lake |  | +87 | Seminole County (Unincorporated Areas).
Grassy Lake Drainage Channel to Triplet Lake | Approximately 230 feet downstream of South Triplet Drive | +56 | City of Casselberry.
| Approximately 1,170 feet upstream of Southcot Road | +80
Gull Lake |  | +69 | City of Longwood.
Hidden Lake |  | +39 | City of Sanford.
Island Lake (Longwood) |  | +85 | City of Longwood.
Lake 1 |  | +50 | City of Lake Mary.
Lake 13 |  | +51 | Seminole County (Unincorporated Areas).
Lake 14 |  | +65 | Seminole County (Unincorporated Areas).
Lake 15 |  | +61 | Seminole County (Unincorporated Areas).
Lake 16 |  | +50 | Seminole County (Unincorporated Areas).
Lake 17 |  | +25 | Seminole County (Unincorporated Areas).
Lake 18 |  | +66 | Seminole County (Unincorporated Areas).
Lake 19 |  | +72 | Seminole County (Unincorporated Areas).
Lake 2 |  | +46 | City of Lake Mary.
Lake 20 |  | +68 | Seminole County (Unincorporated Areas).
Lake 21 |  | +72 | Seminole County (Unincorporated Areas).
Lake 22 |  | +50 | City of Lake Mary.
Lake 23 |  | +46 | Seminole County (Unincorporated Areas), City of Sanford.
Lake 24 |  | +52 | Seminole County (Unincorporated Areas), City of Sanford.
Lake 25 |  | +51 | City of Sanford, City of Lake Mary.
Lake 26 |  | +46 | City of Lake Mary.
Lake 27 |  | +47 | City of Lake Mary.
Lake 28 |  | +45 | Seminole County (Unincorporated Areas).
Lake 29 |  | +44 | Seminole County (Unincorporated Areas).
Lake 3 |  | +45 | City of Lake Mary.
Lake 30 |  | +48 | City of Lake Mary.
Lake 31 |  | +46 | Seminole County (Unincorporated Areas).
Lake 32 |  | +80 | Seminole County (Unincorporated Areas).
Lake 33 |  | +67 | City of Longwood.
Lake 34 |  | +60 | City of Longwood.
Lake 35 |  | +64 | Seminole County (Unincorporated Areas).
Lake 36 |  | +86 | Seminole County (Unincorporated Areas).
Lake 37 |  | +65 | City of Longwood.
Lake 38 |  | +59 | Seminole County (Unincorporated Areas).
Lake 39 |  | +59 | Seminole County (Unincorporated Areas).
Lake 40 |  | +41 | Seminole County (Unincorporated Areas).
Lake 41 |  | +56 | City of Casselberry, City of Winter Springs.
Lake 42 |  | +70 | City of Casselberry.
Lake 43 |  | +76 | City of Casselberry.
Lake 44 |  | +58 | City of Casselberry.
Lake 45 |  | +64 | City of Casselberry.
Lake 46 |  | +58 | Seminole County (Unincorporated Areas).
Lake 47 |  | +59 | Seminole County (Unincorporated Areas), City of Casselberry.
Lake 48 |  | +61 | City of Winter Springs.
Lake 49 |  | +58 | City of Winter Springs.
Lake 50 |  | +55 | City of Winter Springs.
Lake 51 |  | +50 | City of Winter Springs.
Lake 52 |  | +52 | City of Winter Springs.
Lake 53 |  | +55 | City of Winter Springs.
Lake 54 |  | +51 | City of Winter Springs.
Lake 55 |  | +61 | Seminole County (Unincorporated Areas).
Lake 56 |  | +42 | City of Winter Springs.
Lake 57 |  | +51 | City of Oviedo.
Lake 58 |  | +52 | City of Oviedo.
Lake 59 |  | +60 | City of Oviedo.
Lake 60 |  | +43 | Seminole County (Unincorporated Areas).
Lake 61 |  | +43 | Seminole County (Unincorporated Areas).
Lake 62 |  | +43 | Seminole County (Unincorporated Areas).
Lake 63 |  | +26 | Seminole County (Unincorporated Areas).
Lake 64 |  | +26 | Seminole County (Unincorporated Areas).
Lake 65 |  | +24 | Seminole County (Unincorporated Areas).
Lake 66 |  | +55 | Seminole County (Unincorporated Areas).
Lake 67 |  | +52 | Seminole County (Unincorporated Areas).
Lake 68 |  | +43 | Seminole County (Unincorporated Areas).
Lake 69 |  | +63 | Seminole County (Unincorporated Areas).
Lake 70 |  | +89 | Seminole County (Unincorporated Areas).
Lake 71 |  | +64 | Seminole County (Unincorporated Areas).
Lake 72 |  | +64 | Seminole County (Unincorporated Areas).
Lake 73 |  | +106 | Seminole County (Unincorporated Areas).
Lake 74 |  | +114 | Seminole County (Unincorporated Areas).
Lake 75 |  | +125 | Seminole County (Unincorporated Areas).
Lake 76 |  | +51 | City of Lake Mary.
Lake 77 |  | +51 | City of Lake Mary.
Lake 78 |  | +46 | City of Lake Mary.
Lake 79 |  | +46 | City of Lake Mary.
Lake Ada |  | +40 | City of Sanford.
Lake Alma |  | +59 | Seminole County (Unincorporated Areas).
Lake Anette |  | +57 | City of Casselberry.
Lake Bingham |  | +44 | City of Lake Mary.
Lake Brantley |  | +48 | Seminole County (Unincorporated Areas).
Lake Cecile |  | +57 | City of Casselberry.
Lake Charm |  | +45 | City of Oviedo.
Lake Como |  | +46 | City of Lake Mary.
Lake Concord |  | +62 | City of Casselberry.
Lake Ellen |  | +68 | City of Casselberry.
Lake Emily |  | +57 | City of Casselberry.
Lake Emma |  | +45 | City of Lake Mary.
Lake Evergreen |  | +63 | City of Longwood.
Lake Fern |  | +64 | City of Longwood.
Lake Gem |  | +74 | City of Longwood.
Lake Geoffrey |  | +51 | (Seminole County (Unincorporated Areas).
Lake Greenwood |  | +45 | Seminole County (Unincorporated Areas), City of Casselberry.
Lake Griffin |  | +77 | City of Lake Mary, City of Casselberry, City of Longwood.
Lake Hodge |  | +51 | Seminole County (Unincorporated Areas).
Lake Irene North |  | +59 | Seminole County (Unincorporated Areas), City of Casselberry.
Lake Irene South |  | +62 | Seminole County (Unincorporated Areas).
Lake Jane |  | +66 | City of Longwood.
Lake Jennie |  | +38 | Seminole County (Unincorporated Areas).
Lake Lotus |  | +86 | Seminole County (Unincorporated Areas).
Lake Lucerne |  | +58 | Seminole County (Unincorporated Areas), City of Casselberry.
Lake Maltbie |  | +91 | City of Altamonte Springs.
Lake Marie |  | +57 | City of Casselberry.
Lake Minnie |  | +37 | Seminole County (Unincorporated Areas).
Lake Onora |  | +45 | Seminole County (Unincorporated Areas).
Lake Orange |  | +76 | City of Longwood.
Lake Pickett |  | +58 | Seminole County (Unincorporated Areas).
Lake Ruth |  | +64 | Seminole County (Unincorporated Areas), City of Longwood.
Lake Searcy |  | +70 | City of Longwood.
Lake Talmo |  | +59 | City of Longwood, City of Sanford.
Lake Tony |  | +59 | Seminole County (Unincorporated Areas), City of Winter Springs.
Lake Wayman |  | +76 | City of Longwood, City of Sanford.
Lake Wildmere |  | +63 | City of Longwood.
Lake Winsor |  | +84 | City of Longwood.
Lake Yvonne |  | +57 | City of Casselberry.
Little Crystal Lake |  | +45 | Seminole County (Unincorporated Areas), City of Sanford.
Little Lake Howell |  | +56 | Seminole County (Unincorporated Areas), City of Lake Mary.
Little Lake Mary |  | +44 | City of Sanford, City of Lake Mary.
Little Lake Wildmere |  | +64 | City of Longwood.
Lost Lake |  | +56 | City of Casselberry.
Mud Lake |  | +85 | City of Longwood, City of Sanford.
North Side Lake |  | +68 | City of Longwood.
Pearl Lake (East Altamonte Springs) |  | +88 | Seminole County (Unincorporated Areas), City of Altamonte Springs.
Pelican Lake |  | +69 | City of Longwood, City of Casselberry.
Piney Ridge Lake |  | +88 | City of Casselberry.
Plaza Pool |  | +76 | City of Casselberry.
Ponding Area 10 |  | +67 | Seminole County (Unincorporated Areas).
Ponding Area 11 |  | +52 | Seminole County (Unincorporated Areas).
Ponding Area 12 |  | +55 | Seminole County (Unincorporated Areas), City of Longwood.
Ponding Area 13 |  | +56 | Seminole County (Unincorporated Areas), City of Longwood.
Ponding Area 14 |  | +66 | City of Longwood.
Ponding Area 15 |  | +90 | Seminole County (Unincorporated Areas), City of Altamonte Springs.
Ponding Area 16 |  | +57 | City of Casselberry.
Ponding Area 17 |  | +80 | City of Casselberry.
Ponding Area 18 |  | +75 | City of Casselberry.
Ponding Area 19 |  | +58 | City of Casselberry.
Ponding Area 20 |  | +57 | City of Casselberry.
Ponding Area 21 |  | +58 | City of Casselberry.
Ponding Area 22 |  | +50 | City of Winter Springs.
Ponding Area 23 |  | +46 | City of Lake Mary.
Ponding Area 26 |  | +47 | City of Oviedo.
Ponding Area 27 |  | +57 | City of Oviedo.
Ponding Area 28 |  | +60 | City of Oviedo.
Ponding Area 29 |  | +40 | Seminole County (Unincorporated Areas).
Ponding Area 30 |  | +44 | Seminole County (Unincorporated Areas).
Ponding Area 31 |  | +42 | Seminole County (Unincorporated Areas).
Ponding Area 32 |  | +45 | Seminole County (Unincorporated Areas).
Ponding Area 33 |  | +59 | Seminole County (Unincorporated Areas).
Ponding Area 34 |  | +54 | Seminole County (Unincorporated Areas).
Ponding Area 35 |  | +66 | Seminole County (Unincorporated Areas).
Ponding Area 6 |  | +94 | Seminole County (Unincorporated Areas).
Ponding Area 7 |  | +22 | Seminole County (Unincorporated Areas), City of Altamonte Springs.
Ponding Area 8 |  | +61 | City of Sanford.
Ponding Area 9 |  | +59 | Seminole County (Unincorporated Areas).
Pot Lake |  | +88 | City of Altamonte Springs.
Prairie Lake |  | +88 | Seminole County (Unincorporated Areas).
Quail Pond |  | +65 | City of Casselberry, City of Altamonte Springs.
Queens Mirror Lake |  | +56 | City of Casselberry.
Reservoir Lake |  | +44 | Seminole County (Unincorporated Areas).
Rock Lake |  | +83 | Seminole County (Unincorporated Areas), City of Sanford.
Sand Lake |  | +115 | Seminole County (Unincorporated Areas), City of Longwood.
Secret Lake |  | +55 | City of Casselberry.
Secret Lake Drainage Canal | Approximately 25 feet upstream of Secret Way | +56 | City of Casselberry.
| Approximately 30 feet downstream of Sunset Drive | +59
Silver Lake |  | +44 | Seminole County (Unincorporated Areas).
Soldier Creek | Approximately 85 feet upstream of CSX Railroad | +41 | Seminole County (Unincorporated Areas).
| Approximately 65 feet upstream of 14th Avenue | +60 | City of Longwood.
Triplet Lake (North) |  | +55 | City of Casselberry City of Winter Springs.
Triplet Lake (South) |  | +56 | City of Casselberry.
Trout Lake (Casselberry) |  | +80 | Seminole County (Unincorporated Areas), City of Casselberry, City of Longwood.
Twin Lakes (Sanford East) |  | +45 | Seminole County (Unincorporated Areas), City of Sanford.
Twin Lakes (Sanford West) |  | +50 | Seminole County (Unincorporated Areas), City of Sanford, City of Mary Lake.
West Lake |  | +65 | City of Longwood.
* National Geodetic Vertical Datum.
+ National American Vertical Datum.
# Depth in feet above ground.
ADDRESSES
City of Altamonte Springs
Maps are available for inspection at 225 Newburyport Avenue, Altamonte Springs, FL 32701.
City of Casselberry
Maps are available for inspection at 95 Triplet Lake Drive, Casselberry, FL 32707.
City of Lake Mary
Maps are available for inspection at 911 Wallace Court, Lake Mary, FL 32746.
City of Longwood
Maps are available for inspection at 175 West Warren Avenue, Longwood, FL 32750.
City of Oviedo
Maps are available for inspection at 400 Alexandria Boulevard, Oviedo, FL 32765.
City of Sanford
Maps are available for inspection at 300 North Park Avenue, Sanford, FL 32771.
City of Winter Springs
Maps are available for inspection at 1126 East S.R. 434, Winter Springs, FL 32708.
Seminole County (Unincorporated Areas)
Maps are available for inspection at Seminole County Serviced Building, 1101 East First Street, Sanford, FL 32771.
Suwannee County, Florida and Incorporated Areas
Docket No.: FEMA-B-7702
Closed Basin Area 1A | An area located approximately 0.8 mile southwest of the intersection of 104th Street and County Road 49 | +91 | Suwannee County (Unincorporated Areas).
Closed Basin Area 1B | An area located approximately 460 feet east of the intersection of 112th Street and 109th Drive | +100 | Suwannee County (Unincorporated Areas).
Closed Basin Area 1C | An area located approximately 0.5 mile west of the intersection of 112th Street and County Road 49 | +91 | Suwannee County (Unincorporated Areas).
Closed Basin Area 1D | An area located approximately 900 feet east of the intersection of 112th Street and County Road 49 | +115 | Suwannee County (Unincorporated Areas).
Closed Basin Area 1E | An area located approximately 0.4 mile east of the intersection of 112th Street and County Road 49 | +125 | Suwannee County (Unincorporated Areas).
Closed Basin Area 1F | An area located approximately 550 feet southeast of the intersection of 114th Terrace and County Road 49 | +104 | Suwannee County (Unincorporated Areas).
Closed Basin Area 2A | An area located approximately 1,250 feet southeast of the intersection of 99th Lane and 146th Street | +99 | Suwannee County (Unincorporated Areas).
Closed Basin Area 2B | An area located approximately 0.25 mile northeast of the intersection of 99th Lane and 146th Street | +98 | Suwannee County (Unincorporated Areas).
Closed Basin Area 2C | An area located approximately 0.4 mile east of the intersection of 99th Lane and 146th Street | +93 | Suwannee County (Unincorporated Areas).
Closed Basin Area 2D | An area located approximately 0.6 mile southeast of the intersection of 99th Lane and 146th Street | +93 | Suwannee County (Unincorporated Areas).
Closed Basin Area 2E | An area located approximately 0.7 mile northeast of the intersection of 99th Lane and 146th Street | +104 | Suwannee County (Unincorporated Areas).
* National Geodetic Vertical Datum.
+ National American Vertical Datum.
# Depth in feet above ground.
ADDRESSES
Suwannee County (Unincorporated Areas)
Maps are available for inspection at the Suwannee County Coordinator's Office, Suwannee County Courthouse, 200 South Ohio/MLK Jr. Avenue, Live Oak, Florida.
Bartow County, Georgia and Incorporated Areas
Docket No.: FEMA-B-7701
Raccoon Creek | Approximately 19,930 feet upstream of the confluence with Etowah River | +705 | Bartow County (Unincorporated Areas).
| Approximately 22,900 feet upstream of the confluence with Etowah River | +708
* National Geodetic Vertical Datum.
+ National American Vertical Datum.
# Depth in feet above ground.
ADDRESSES
Bartow County (Unincorporated Areas)
Maps are available for inspection at the Community Map Repository, 135 West Cherokee Avenue, Suite 124, Cartersville, Georgia 30120.
Houston County, Georgia and Incorporated Areas
Docket No.: FEMA-B-7470
Howard Branch | At confluence with Sandy Run Creek | +304 | City of Warner Robins, Houston County (Unincorporated Areas).
| Approximately 690 feet upstream of confluence with Sandy Run Creek | +307
Redding Branch | At confluence with Mossy Creek | +269 | Houston County (Unincorporated Areas).
| Approximately 630 feet upstream of confluence with Mossy Creek | +269
Sandy Run Creek | Approximately 1,700 feet upstream of Leisure Lake Dam | +302 | Houston County (Unincorporated Areas).
| Approximately 11,950 feet upstream of confluence of Howard Branch | +310
* National Geodetic Vertical Datum.
+ National American Vertical Datum.
# Depth in feet above ground.
ADDRESSES
Houston County (Unincorporated Areas)
Maps are available for inspection at Houston County Building Inspections Department, 200 Carl Vinson Parkway, Warner Robins, Georgia.
City of Warner Robins
Maps are available for inspection at the City of Warner Robins Engineering Department, 700 Watson Boulevard, Warner Robins, Georgia.
Union County, Georgia and Incorporated Areas
Docket No.: FEMA-B-7702
Akins Creek/Cooks Cove Branch | At confluence with Nottely River (Upper Reach) | *1,829 | Union County (Unincorporated Areas).
| Approximately 1,690 feet upstream of Town Mountain Road | *1,903
Anderson Creek | At confluence with Coosa Creek | *1,805 | Union County (Unincorporated Areas).
| Approximately 2,660 feet upstream of the confluence with Coosa Creek | *1,815
Arkaqua Creek | At confluence with Nottely River (Upper Reach) | *1,832 | Union County (Unincorporated Areas).
| Approximately 11,170 feet upstream of Lower Trackrock Road | *2,015
Barnes Creek | At confluence with Ivylog Creek | *1,790 | Union County (Unincorporated Areas).
| Just upstream of Ivylog Road | *1,810
Brasstown Creek | Approximately 1,100 feet downstream of Young Harris Highway | *1,889 | Union County (Unincorporated Areas).
| Approximately 3,500 feet upstream of Young Harris Highway | *1,931
Butternut Creek | At confluence with Nottely River (Upper Reach) | *1,783 | City of Blairsville, Union County (Unincorporated Areas).
| Approximately 8,210 feet upstream of Memory Gardens Drive | *1,950
Conley Creek | Approximately 2,750 feet downstream of Murphy Highway | *1,788 | Union County (Unincorporated Areas).
| Approximately 70 feet upstream of Ivylog Road | *1,852
Coosa Creek | Approximately 90 feet downstream of Blue Ridge Highway | *1,802 | Union County (Unincorporated Areas).
| At confluence of East and West Forks Coosa Creek | *1,865
Dooley Creek | Approximately 130 feet downstream of John Smith Road West | *1,653 | Union County (Unincorporated Areas).
| Approximately 855 feet upstream of R.T. Lance Road | *1,784
East Fork Coosa Creek | At confluence with Coosa Creek | *1,865 | Union County (Unincorporated Areas).
| Approximately 3,030 feet upstream of Crawley Gap Road | *1,950
Ivylog Creek | Approximately 100 feet downstream of the confluence of Barnes Creek | *1,789 | Union County (Unincorporated Areas).
| Approximately 3,280 feet upstream of Gumlog Road | *1,899
Jones Creek | At confluence with Youngcane Creek | *1,877 | Union County (Unincorporated Areas).
| Approximately 360 feet upstream of R Way Road | *1,955
Kiutuestia Creek | Approximately 50 feet downstream of Kiutuestia Creek Road | *1,783 | Union County (Unincorporated Areas).
| Just downstream of Pleasant Grove Road | *1,884
Little Youngcane Creek | At confluence with Youngcane Creek | *1,877 | Union County (Unincorporated Areas).
| Approximately 50 feet upstream of Blue Ridge Highway | *1,935
Nottely Lake | Entire Shoreline | *1,783 | Union County (Unincorporated Areas).
Nottely River (Lower Reach) | Approximately 3,465 feet downstream Road of John Smith Road West | *1,600 | Union County (Unincorporated Areas).
| Approximately 8,180 feet upstream of John Smith Road West | *1,615
Nottely River (Upper Reach) | Approximately 800 feet downstream of State Highway 515 | *1,782 | Union County (Unincorporated Areas).
| Approximately 50 feet upstream of Hatchet Creek Road | *2,021
Stink Creek | At confluence with Nottely River (Upper Reach) | *1,889 | Union County (Unincorporated Areas).
| Approximately 200 feet upstream of Wolfstake Road East | *2,007
Suches Creek | At confluence with Toccoa River | *2,107 | Union County (Unincorporated Areas).
| Approximately 6,520 feet upstream of Old Robert Harkins Drive | *2,141
Toccoa River | Approximately 11,960 feet downstream of Parker Road | *2,047 | Union County (Unincorporated Areas).
| Approximately 2,220 feet upstream of Gooch Road South | *2,156
Town Creek | At confluence with Nottely River (Upper Reach) | *1,869 | Union County (Unincorporated Areas).
| Approximately 275 feet upstream of Fain Branch Road | *1,994
Trackrock Branch | At confluence with Arkaqua Creek | *1,890 | Union County (Unincorporated Areas).
| Approximately 3,900 feet upstream of the confluence with Arkaqua Creek | *1,920
West Fork Coosa Creek/Hicks Gap Branch | At confluence with Coosa Creek | *1,865 | Union County (Unincorporated Areas).
| Approximately 70 feet upstream of Mulky Gap Road | *1,945
Wolf Creek | At confluence with Nottely River (Upper Reach) | *1,866 | Union County (Unincorporated Areas).
| Approximately 1,375 feet upstream of Meadow Drive | *1,913
Youngcane Creek | Approximately 225 feet downstream of State Highway 515 | *1,817 | Union County (Unincorporated Areas).
| Approximately 2,420 feet upstream of Burnette Road | *1,984
* National Geodetic Vertical Datum.
+ North American Vertical Datum.
# Depth in feet above ground.
ADDRESSES
City of Blairsville
Maps are available for inspection at the Community Map Repository, City Hall, Blairsville, Georgia 30514.
Union County (Unincorporated Areas)
Maps are available for inspection at the Community Map Repository, 114 Courthouse Street, Blairsville, Georgia 30512.
Franklin County, Kentucky and Incorporated Areas
Docket No.: FEMA-B-7470
Penitentiary Branch | Approximately 660 feet upstream of the confluence with the Kentucky River | +493 | Franklin County (Unincorporated Areas), City of Franklin.
| Approximately 2,820 feet upstream of U.S. Route 127 | +493
* National Geodetic Vertical Datum.
+ North American Vertical Datum.
# Depth in feet above ground.
ADDRESSES
Franklin County Unincorporated Areas
Maps are available for inspection at 313 West Main Street, Frankfort, Kentucky 40601.
City of Franklin
Maps are available for inspection at 315 West Second Street, Frankfort, Kentucky 40602.
Choctaw County, Mississippi, and Incorporated Areas
Docket No.: FEMA-B-7701
Yockanookany River | At Highway 407 | +454 | Town of Weir, Choctaw County (Unincorporated Areas).
| Approximately 400 feet upstream of South Union Road | +513
Tributary 2 | At Kansas City Southern Railroad Bridge | +516 | Town of Ackerman, Choctaw County (Unincorporated Areas).
| Approximately 120 feet upstream of McKnight Road | +534
Tributary 3 | At West Main Street | +510 | Town of Ackerman, Choctaw County (Unincorporated Areas).
| Approximately 90 feet upstream of State Highway 12 | +538
Tributary 4 | Approximately 70 feet downstream of Commerce Street | +521 | Town of Ackerman.
| Approximately 320 feet upstream of College Street | +534
* National Geodetic Vertical Datum.
+ North American Vertical Datum.
# Depth in feet above ground.
ADDRESSES
Town of Ackerman
Maps are available for inspection at Town Hall, 45 East Main Street, Ackerman, MS 39735.
Choctaw County (Unincorporated Areas)
Maps are available for inspection at County Courthouse, 22 East Quinn Street, Ackerman, MS 39735.
Town of Weir
Maps are available for inspection at Town Hall, 217 Front Street, Weir, MS 39772.
Ozark County, Missouri and Incorporated Areas
Docket No.: FEMA-B-7459
Becky Cobb Creek | Approximately 400 feet upstream of the confluence with Lick Creek | +765 | Ozark County (Unincorporated Areas), City of Gainesville.
| Approximately 2800 feet downstream of County Road 102 | +856
Bennetts Bayou | Approximately 9300 feet downstream of Highway 142 | +670 | Ozark County (Unincorporated Areas), Village of Bakersfield.
| Approximately 1400 feet upstream of the confluence with Unnamed Stream in Smith Hollow | +741
Harrison Creek | Approximately 1850 feet upstream of the confluence with Lick Creek | +749 | Ozark County (Unincorporated Areas), City of Gainesville.
| Approximately 4750 feet upstream of First Road | +800
Hogard Creek | Approximately 500 feet upstream of the confluence with Lick Creek | +793 | Ozark County (Unincorporated Areas).
| Approximately 8750 feet upstream of the confluence with Lick Creek | +856
Lick Creek | Approximately 7500 feet downstream of the confluence with Harrison Creek | +713 | Ozark County (Unincorporated Areas), City of Gainesville.
| Approximately 5350 feet upstream of the confluence with Hogard Creek | +818
Turkey Creek | Approximately 1000 feet downstream of County Road 632 | +698 | Ozark County (Unincorporated Areas).
| Approximately 100 feet downstream of Highway 160 | +806
Unnamed Stream in Ledbetter Hollow | Approximately 4850 feet upstream of the confluence with Pond Fork | +698 | Ozark County (Unincorporated Areas).
| Approximately 700 feet downstream of Highway 95 | +811
Unnamed Stream in Plumb Hollow | Approximately 1350 feet upstream of the confluence with Bennetts Bayou | +714 | Ozark County (Unincorporated Areas), Village of Bakersfield.
| Approximately 1200 feet upstream of Highway 101 | +769
Unnamed Stream in Smith Hollow | Approximately 500 feet upstream of the confluence with Bennetts Bayou | +740 | Ozark County (Unincorporated Areas).
| Approximately 2400 feet upstream of the confluence with Bennetts Bayou | +755
* National Geodetic Vertical Datum.
+ North American Vertical Datum.
# Depth in feet above ground.
ADDRESSES
Ozark County (Unincorporated Areas)
Maps are available for inspection at Ozark County Courthouse, Gainesville, MO 65655.
City of Gainesville
Maps are available for inspection at 4th and Harlin, Gainesville, MO 65655.
Village of Bakersfield
Maps are available for inspection at 112 Watertower, Bakersfield, MO 65609.
Flathead County, Montana, and Incorporated Areas
Docket No.: FEMA-B-7472
Ashley Creek | Just downstream of Cemetery Road | +2920 | Flathead County (Unincorporated Areas), City of Kalispell.
| Approximately 150 feet downstream of Airport Road | +2929
| Approximately 250 feet upstream of Burlington Northern Railroad | +2942
* National Geodetic Vertical Datum.
+ North American Vertical Datum.
# Depth in feet above ground.
ADDRESSES
Flathead County (Unincorporated Areas)
Maps are available for inspection at the Flathead County Library, 247 First Ave. East, Kalispell, Montana 59901 and at the Flathead County Planning and Zoning Office, 1035 First Ave. West, Kalispell, Montana 59901.
City of Kalispell
Maps are available for inspection at the City of Kalispell Planning Department, 17 Second St. East, Suite 211, Kalispell, Montana 59901.
Union County, Pennsylvania, and Incorporated Areas
Docket No.: FEMA-B-7700
Buffalo Creek | Approximately at Mill Road | +461 | Township of Kelly.
| Approximately 1950 feet downstream of Strawbridge Road | +462
* National Geodetic Vertical Datum.
+ North American Vertical Datum.
# Depth in feet above ground.
ADDRESSES
Township of Kelly
Maps are available for inspection at 551 Zeigler Rd, Lewisburg, PA 17837.
Campbell County, Tennessee, and Incorporated Areas
Docket No.: FEMA-B-7473
Big Creek | Approximately 70 feet downstream of High Knob Road | +1032 | Campbell County (Unincorporated Areas).
| At the confluence with Casper Sharp Branch | +1032
Clear Fork | Approximately 900 feet upstream of the confluence of Rose Creek | +1084 | Campbell County (Unincorporated Areas).
| Approximately 2,050 feet upstream of the confluence of Rose Creek | +1086
Dog Creek | Just downstream of Elkins Road | +1032 | Campbell County (Unincorporated Areas), Town of Caryville, Town of Jacksboro.
| Approximately 1,690 feet upstream of U.S. Highway 25 | +1075
Dog Creek Tributary | At the confluence with Dog Creek | +1060 | Town of Jacksboro.
| Just downstream of Eagle Bluff Road | +1090
Elk Creek | Approximately 800 feet upstream of railroad bridge | +972 | Campbell County (Unincorporated Areas).
| Approximately 1,730 feet downstream of the confluence of Burnt Pone Creek | +975
* National Geodetic Vertical Datum.
+ North American Vertical Datum.
# Depth in feet above ground.
ADDRESSES
Town of Caryville
Maps are available for inspection at 4839 Old Highway 63, Caryville, TN 37717.
Town of Jacksboro
Maps are available for inspection at 585 Main Street, Jacksboro, TN 37757.
Campbell County (Unincorporated Areas)
Maps are available for inspection at County Courthouse, 195 Kentucky Street, Jacksboro, TN 37757.
Giles County, Tennessee, and Incorporated Areas
Docket No.: FEMA-B-7473
Branch Creek | At the confluence with Robertson Fork Creek | +738 | Giles County (Unincorporated Areas), City of Lynnville
| Approximately 1,000 feet upstream of Industrial Park Road | +762
Tributary 1 | At the confluence with Branch Creek | +748 | City of Lynnville.
| Approximately 870 feet upstream of Mill Street | +763
Elk River | Approximately 2,800 feet downstream of U.S. Highway 31 | +607 | City of Elkton.
| Approximately 100 feet downstream of Interstate Highway 65 | +608
Robertson Fork Creek | Approximately 1.3 miles downstream of the confluence with Lynn Creek | +715 | Giles County (Unincorporated Areas), City of Lynnville.
| Approximately 100 feet upstream of the confluence with Branch Creek | +739
* National Geodetic Vertical Datum.
+ North American Vertical Datum.
# Depth in feet above ground.
ADDRESSES
City of Elkton
Maps are available for inspection at Elkton City Hall, 110 Main Street, Elkton, TN 38455.
City of Lynnville
Maps are available for inspection at Lynnville City Hall, 101 Mill Street, Lynnville, TN 38472.
Unincorporated Areas of Giles County
Maps are available for inspection at County Courthouse, Pulaski, TN 38478.
Hardeman County, Tennessee, and Incorporated Areas
Docket No.: FEMA-B-7473
Spring Creek | Just upstream of U.S. Highway 64 | +352 | City of Bolivar.
| Approximately 500 feet upstream of State Highway 125 | +360
* National Geodetic Vertical Datum.
+ North American Vertical Datum.
# Depth in feet above ground.
ADDRESSES
City of Bolivar
Maps are available for inspection at County Tax Assessors Office, 106 Warren Street, Bolivar, TN 38008.
Henry County, Tennessee, and Incorporated Areas
Docket No.: FEMA-B-7473
Bailey Fork Creek Tributary 2 | At Lone Oak Road | +390 | City of Paris.
| Approximately 280 feet upstream of U.S. Highway 641 | +450
Clifty Creek | Approximately 1,600 feet upstream of State Highway 77 | +422 | Henry County (Unincorporated Areas).
| Approximately 1,940 feet upstream of State Highway 218 Bypass | +452
Greenbriar Creek | At the confluence with Barnes Fork | +377 | Henry County (Unincorporated Areas).
| Approximately 1,480 feet upstream of Hobby Road | +407
* National Geodetic Vertical Datum.
+ North American Vertical Datum.
# Depth in feet above ground.
ADDRESSES
City of Paris
Maps are available for inspection at 100 North Caldwell Avenue, Paris, TN 38242.
Henry County (Unincorporated Areas)
Maps are available for inspection at Henry County Courthouse, 213 West Washington Street, Paris, TN 38242.
Lauderdale County, Tennessee, and Incorporated Areas
Docket No.: FEMA-B-7473
Cane Creek 2 | At the confluence with Cane Creek | +339 | Lauderdale County (Unincorporated Areas).
| Approximately 6,600 feet upstream of Dam Site 14A | +369
Hyde Creek | At the confluence with Cane Creek | +318 | Lauderdale County (Unincorporated Areas), Town of Ripley.
| Approximately 50 feet upstream of Parrish Road | +379
* National Geodetic Vertical Datum.
+ North American Vertical Datum.
# Depth in feet above ground.
ADDRESSES
Town of Ripley
Maps are available for inspection at Ripley Town Hall, 110 South Washington Street, Ripley, TN 38063.
Lauderdale County (Unincorporated Areas)
Maps are available for inspection at County Courthouse, 100 Court Square, Ripley, TN.
McMinn County, Tennessee and Incorporated Areas
Docket No: FEMA-B-7700
Guthrie Creek | At confluence with North Mouse Creek | +822 | McMinn County (Unincorporated Areas).
| At County Highway 172 | +822
Forest Branch | At North Jackson Street | +952 | City of Athens.
| At North Avenue | +962
* National Geodetic Vertical Datum.
+ North American Vertical Datum.
# Depth in feet above ground.
ADDRESSES
McMinn County (Unincorporated Areas)
Maps are available for inspection at: McMinn County Mayor's Office, 6 East Madison Avenue, Athens, Tennessee 37303.
City of Athens
Maps are available for inspection at: City of Athens GIS Department, 815 North Jackson Street, Athens, Tennessee 37371.
Roane County, Tennessee and Incorporated Areas
Docket No.: FEMA-B-7701
Clinch River | At confluence with Tennessee River | +746 | City of Kingston, Roane County (Unincorporated Areas).
| At confluence with Emory River | +746
Clinch River | At confluence with Brashear Creek | +747 | City of Oak Ridge, Roane County (Unincorporated Areas).
| At Roane County-Knox County Boundary | +796
* National Geodetic Vertical Datum.
+ North American Vertical Datum.
# Depth in feet above ground.
ADDRESSES
Roane County (Unincorporated Areas)
Maps are available for inspection at: Roane County Mayor's Office, 200 Race Street, Kingston, TN 37763.
City of Kingston
Maps are available for inspection at: City of Kingston Mayor's Office, 125 W. Cumberland Street, Kingston, TN 37763.
City of Oak Ridge
Maps are available for inspection at: Community Development Department, 200 South Tulane Avenue, Oak Ridge, TN 37830.
Shelby County, Tennessee and Incorporated Areas
Docket No.: FEMA-B-7458
Harrington Lateral C Creek | At Bartlett Road | +257 | City of Bartlett, Shelby County (Unincorporated Areas).
| At Hawethorn Road | +280
Harrington Creek Lateral D | At the confluence of Harrington Creek | +259 | City of Bartlett, Shelby County (Unincorporated Areas).
| At Elmore Park Road | +275
Wolf Creek Lateral J | At Shelton Road | +296 | City of Collierville, Shelby County (Unincorporated Areas).
| At Peterson Lake Road | +298
* National Geodetic Vertical Datum.
+ North American Vertical Datum.
# Depth in feet above ground.
ADDRESSES
Shelby County (Unincorporated Areas)
Maps are available for inspection at the Department of Engineering, 160 North Main Street, Memphis, TN 38103.
City of Arlington
Maps are available for inspection at Arlington City Hall, 5854 Airline Road, Arlington, TN 38002.
City of Bartlett
Maps are available for inspection at Bartlett City Hall, 3585, Altrutial Road, Bartlett, TN 38134.
City of Collierville
Maps are available for inspection at Department of Public Services, 500 Keough Road, Collierville, TN 38017.
City of Germantown
Maps are available for inspection at Department of Engineering, 1920 South Germantown Road, Germantown, TN 38138.
City of Lakeland
Maps are available for inspection at Lakeland City Hall, 10001 Highway 70, Lakeland, TN 38002.
City of Memphis
Maps are available for inspection at Department of Engineering, 125 North Mid American Mall, Memphis, TN 38103.
City of Millington
Maps are available for inspection at Millington City Hall, 7930 Nelson Street, Millington, TN 38053.
White County, Tennessee and Incorporated Areas
Docket No.: FEMA-B-7701
Calfkiller River | At Wagner Street | +867 | City of Sparta.
| At West Bronson Street | +963
Town Creek B | At Highway 111 | +896 | White County (Unincorporated Areas).
| At Highway 70/North | +906
* National Geodetic Vertical Datum.
+ North American Vertical Datum.
# Depth in feet above ground.
ADDRESSES
White County (Unincorporated Areas)
Maps are available for inspection at White County Executive Office, Room 205, Courthouse, 1 West Bockmen Way, Sparta, TN 38583.
City of Sparta
Maps are available for inspection at White County Executive Office, Room 205, Courthouse, 1 West Bockmen Way, Sparta, TN 38583.
Lubbock County, Texas and Incorporated Areas
Docket No.: FEMA-B-7457
Jones Warner Playa | Bordered by: Parklane Drive to the west and south, Spur Lane to the east and Lee Kitchens Drive to the north | +3111 | Lubbock County (Unincorporated Areas).
Playa 26 | Bordered by: Highway 289 to the south, 62nd Street to the north, Peoria Avenue to the east, and Quaker Avenue to the west | +3236 | Lubbock County (Unincorporated Areas).
Playa 44 | Bordered by: Brownfield Highway to the south, Raleigh Avenue to the west, Memphis Avenue to the east, and 13th Street to the north | +3229 | Lubbock County (Unincorporated Areas).
Playa 47 | Confluence of Playa System C3 and Playa System C1 | +3247 | Lubbock County (Unincorporated Areas).
Roche's Lake Playa | Bordered by: 13th Street to the east, Highway 84 to the south and west, and Geneva Street to the north | +3080 | Lubbock County (Unincorporated Areas).
Woodrow East Playa-Central | Approximately 1,750 feet southwest of the intersection of Highway 87 and Woodrow Road | +3182 | Lubbock County (Unincorporated Areas).
Playa-East | Approximately 5,000 feet southwest of the intersection of Highway 87 and Woodrow Road | +3194 | Lubbock County (Unincorporated Areas).
Playa-West | Intersection of Highway 87 and Woodrow Road | +3180 | Lubbock County (Unincorporated Areas).
* National Geodetic Vertical Datum.
+ North American Vertical Datum.
# Depth in feet above ground.
ADDRESSES
Lubbock County (Unincorporated Areas)
Maps are available for inspection at 904 Broadway, Room 101, Lubbock, TX 79408.
City of Lubbock
Maps are available for inspection at City Hall, 1625 13th Street, Room 107, Lubbock, TX 79401.
City of Ransom Canyon
Maps are available for inspection at 24 Lee Kitchens Drive, Ransom Canyon, TX 79366.
City of Slaton
Maps are available for inspection at 130 South 9th Street, Slaton, TX 79364.
Clarke County, Virginia, and Incorporated Areas
Docket No.: FEMA-B-7705
Shenandoah River | Approximately 2.47 miles downstream of Harry Byrd Highway/State Highway 7, at the Clarke County/ West Virginia State line | +379 | Clarke County (Unincorporated Areas).
| Approximately 3.91 miles upstream of John Mosby Highway/U.S. Highway 17/50, at the Clarke/ Fauquier County line | +456
* National Geodetic Vertical Datum.
+ North American Vertical Datum.
# Depth in feet above ground.
ADDRESSES
Clarke County (Unincorporated Areas)
Maps are available for inspection at the County Administration Building, 102 North Church Street, Berryville, VA 22611.
Roanoke County, Virginia, and Incorporated Areas
Docket No.: FEMA-B-7473
Back Creek Tributary A | Approximately 2330 feet downstream of U.S. Road 220 | +960 | Roanoke County (Unincorporated Areas).
| Approximately 2945 feet downstream of U.S. Road 220 | +960
Bradshaw Creek | Approximately 5490 feet downstream of Bradshaw Road at the County Line | +1383 | Roanoke County (Unincorporated Areas).
| Approximately 6740 feet upstream of Hidden Cove Road | +1850
Mason Creek | Approximately at Bendemeer Road | +1274 | Roanoke County (Unincorporated Areas).
| Approximately 800 feet upstream of Bradshaw Road | +1586
Snyder Branch | Approximately 100 feet downstream of South Market Street | +960 | City of Salem.
| Approximately 2330 feet downstream of U.S. Road 220 | +960
* National Geodetic Vertical Datum.
+ North American Vertical Datum.
# Depth in feet above ground.
ADDRESSES
City of Salem
Maps are available for inspection at 114 North Broad St, Salem, VA 24018.
Roanoke County (Unincorporated Areas)
Maps are available for inspection at 5204 Bernard Drive, SW., Roanoke, VA 24018.

(Catalog of Federal Domestic Assistance No. 83.100, “Flood Insurance.”)

Dated: April 16, 2007.
David I. Maurstad,
Federal Insurance Administrator of the National Flood Insurance Program, Federal Emergency Management Agency, Department of Homeland Security.

f

[FR Doc. E7-7975 Filed 4-25-07; 8:45 am]

BILLING CODE 9110-12-P